DEPARTMENT OF THE INTERIOR

Fish and Wildlife Service

[FWS-R8-ES-2009-N158; 1112-0000-81420-F2]

Amendment to the Incidental Take Permit for the San Bruno Mountain Habitat Conservation Plan in San Mateo County, CA

AGENCY: Fish and Wildlife Service, Interior.

ACTION: Notice of finding of no significant impact (FONSI) and issuance of amended incidental take permit.

SUMMARY: On May 20, 2009, we, the U.S. Fish and Wildlife Service, made a FONSI determination for the action described in the final Environmental Assessment (EA) for the San Bruno Mountain Habitat Conservation Plan (HCP) Amendment. As authorized by the Endangered Species Act, as amended (Act), we issued an amended Incidental Take Permit to the Cities of Brisbane, South San Francisco, and Daly City, and the County of San Mateo, subject to certain conditions set forth in the permit.

ADDRESSES: Eric Tattersall, Deputy Assistant Field Supervisor, Conservation Planning and Recovery Division, or Mike Thomas, Conservation Planning Branch, U.S. Fish and Wildlife Service, Sacramento Fish and Wildlife Office, 2800 Cottage Way, W-2605, Sacramento, CA 95825.

FOR FURTHER INFORMATION CONTACT: Additional information on this permit may be requested by contacting Eric Tattersall, Deputy Assistant Field Supervisor, Conservation Planning and Recovery Division, at the address shown above or at (916) 414-6600 (telephone). The final EA, Response to Comments, and FONSI are on the Service's Web site at http://www.fws.gov/sacramento/es/hcp.htm.

SUPPLEMENTARY INFORMATION: On April 15, 2008, we published a notice in the Federal Register (73 FR 20324) announcing the availability of an EA and amended HCP, and our receipt of an incidental take permit application from the City of Brisbane for an amendment to the San Bruno Mountain Habitat Conservation Plan, in San Mateo County, California. Pursuant to section 10(a)(1)(A) of the Act, the amended permit authorizes the incidental take of the federally endangered callippe silverspot butterfly (Speyeria callippe callippe) and federally threatened Bay checkerspot butterfly (Euphydryas editha bayensis) within the HCP's 228.3-acre Northeast Ridge (Administrative Parcel 1-07) and protected habitat (Conserved Habitat) area under the terms of the amended HCP. Incidental take of the two butterflies would be in connection with development activities on the Northeast Ridge and management and monitoring of Conserved Habitat currently held or that will be held in fee title by San Mateo County or the State of California and carried out under the San Bruno Mountain HCP. Incidental take of the Bay checkerspot butterfly is not expected to occur since the species has not been observed on San Bruno Mountain since the mid 1980s. However, if the Bay checkerspot butterfly is reintroduced to San Bruno Mountain or naturally recolonizes the area, incidental take resulting from monitoring and management of Conserved Habitat will be covered under the amended incidental take permit.

The amended HCP reduces the size of the Northeast Ridge development area and increases the size of Conserved Habitat. The amended HCP increases undisturbed Conserved Habitat by 20.36 acres, and increases total Conserved Habitat to 144.7 acres in the Northeast Ridge parcel. The reconfigured Conserved Habitat area preserves high quality butterfly habitat including hilltops (used as mating sites), topographic diversity, and a high density of callippe silverspot butterfly larval host plants. The amendment eliminates the Unit II-Neighborhood I subdivision (UII-NI) and increases the size of the Unit II-Neighborhood II subdivision (UII-NII). The reconfigured UII-NII is within an area that has generally lower value habitat (i.e., lower density of larval host plants, fewer hilltops, and a 7.85-acre grove of eucalyptus trees) than would have been disturbed by UII-NI. The increased development acreage in UII-NII would occur in the eucalyptus grove and areas previously proposed as revegetated areas.

Notice is hereby given that on May 20, 2009, the Proposed Action (Alternative 1) was selected and a FONSI determination was made for the action as described in the final EA for the San Bruno Mountain HCP Amendment. As authorized by the provisions of the Act (16 U.S.C. 1531 et seq.), we issued an amended permit (TE-215574-5) to the Cities of Brisbane, South San Francisco, and Daly City, and the County of San Mateo, subject to certain conditions set forth in the permit. The permit amendment was granted only after we determined it was applied for in good faith, that granting the permit amendment would not be to the disadvantage of the listed species, and that granting the permit amendment was consistent with the purposes and policy set forth in the Act.

John Enbring,
Acting Deputy Regional Director, Pacific Southwest Region, Sacramento, California.

[FR Doc. E9-23763 Filed 10-1-09; 8:45 am]

BILLING CODE 4310-55-P